DEPARTMENT OF HEALTH AND HUMAN SERVICES

National Institutes of Health

National Institute on Deafness and Other Communication Disorders; Amended Notice of Meeting

Notice is hereby given of a change in the meeting of the National Deafness and Other Communication Disorders Advisory Council, September 08, 2022, 10:00 a.m. to September 09, 2022, 01:00 p.m., PORTER NEUROSCIENCE RESEARCH CENTER, Building 35A, 35 Convent Drive, Bethesda, MD, 20892 which was published in the Federal Register on July 13, 2022, 87 FR 41732.

This notice is being amended to change the meeting location from Building 35 to a virtual meeting. The URL link to the meeting is https://videocast.nih.gov/watch=45775 (9/8) and https://videocast.nih.gov/watch=45777 (9/9). The meeting is partially Closed to the public.

Dated: August 25, 2022.
Victoria E. Townsend,
Program Analyst, Office of Federal Advisory Committee Policy.

[FR Doc. 2022-18705 Filed 8-29-22; 8:45 am]

BILLING CODE 4140-01-P